DEPARTMENT OF ENERGY

Federal Energy Regulatory Commission

[Docket No. TX02-2-000]

Kiowa Power Partners, LLC; Notice of Filing

April 26, 2002.

Take notice that on April 26, 2002, Kiowa Power Partners, LLC (KPP) submitted an application under Section 210, 211, and 212 of the Federal Power Act, together with an Offer of Settlement between Kiowa and Oncor Electric Delivery Company (Oncor) that has been executed by Kiowa, an unexecuted Interconnection Agreement between Kiowa and Oncor, and a proposed draft order, seeking an order from the Federal Energy Regulatory Commission (Commission) directing Oncor to provide a physical interconnection of facilities and transmission services for Kiowa's 1,220 MW (summer rating) electric generating facility currently under construction in Pittsburg County, Oklahoma and approving the Offer of Settlement.

Kiowa states that this filing has been served via facsimile or hand delivery upon Oncor, the Electric Reliability Council of Texas, and the Public Utility Commission of Texas.

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Comment Date: May 6, 2002.

Linwood A. Watson, Jr.,
Deputy Secretary.

[FR Doc. 02-10856 Filed 5-1-02; 8:45 am]

BILLING CODE 6717-01-P